DEPARTMENT OF THE INTERIOR

Geological Survey

[GX14EB00A181100; OMB Control Number 1028-0101]

Agency Information Collection Activities; Submission to the Office of Management and Budget for Review and Approval; The William T. Pecora Award; Application and Nomination Process

AGENCY: U.S. Geological Survey, Interior.

ACTION: Notice of information collection.

SUMMARY: In accordance with the Paperwork Reduction Act of 1995, the U.S. Geological Survey (U.S.G.S.) is proposing to renew an information collection.

DATES: Interested persons are invited to submit comments on or before March 2, 2018.

ADDRESSES: Send written comments on this information collection request (ICR) to the Office of Management and Budget's Desk Officer for the Department of the Interior by email at OIRA_Submission@omb.eop.gov; or via facsimile to (202) 395-5806. Please provide a copy of your comments to U.S.G.S., Information Collections Officer, 12201 Sunrise Valley Drive, MS 159, Reston, VA 20192; or by email to gs-info_collections@usgs.gov. Please reference OMB Control Number 1028-[####] in the subject line of your comments.

FOR FURTHER INFORMATION CONTACT: To request additional information about this ICR, Thomas Holm, USGS, EROS Center, 47914 252nd Street, Sioux Falls, SD 57198 (mail), by telephone (605)-594-6127, or holm@usgs.gov (email). You may also view the ICR at http://www.reginfo.gov/public/do/PRAMain.

SUPPLEMENTARY INFORMATION: We, the U.S.G.S., in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on November 22, 2017, 82 FR 55626. No comments were received.

We are again soliciting comments on the proposed ICR that is described below. We are especially interested in public comment addressing the following issues: (1) Is the collection necessary to the proper functions of the U.S.G.S.; (2) will this information be processed and used in a timely manner; (3) is the estimate of burden accurate; (4) how might the U.S.G.S. enhance the quality, utility, and clarity of the information to be collected; and (5) how might the U.S.G.S. minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The William T. Pecora Award is presented annually to individuals or teams using satellite or aerial remote sensing that make outstanding contributions toward understanding the Earth (land, oceans and air), educating the next generation of scientists, informing decision makers or supporting natural or human-induced disaster response. The award is sponsored jointly by the Department of the Interior (DOI) and the National Aeronautics and Space Administration (NASA).

The award was established in 1974 to honor the memory of Dr. William T. Pecora, former Director of the USGS and Under Secretary, Department of the Interior. Dr. Pecora was a motivating force behind the establishment of a program for civil remote sensing of the Earth from space. His early vision and support helped establish what we know today as the Landsat satellite program. The purpose of the award is to recognize individuals or groups working in the field of remote sensing of the earth. National and international nominations are accepted from the public and private sector individuals, teams, organizations, and professional societies.

Nomination packages include three sections: (A) Cover Sheet, (B) Summary Statement, and (C) Supplemental Materials. The cover sheet includes professional contact information. The Summary Statement is limited to two pages and describes the nominee's achievements in the scientific and technical remote sensing community, contributions leading to successful practical applications of remote sensing, and/or major breakthroughs in remote sensing science or technology. Nominations may include up to 10 pages of supplemental information such as resume, publications list, and/or letters of endorsement.

Title of Collection: Pecora Award; Application and Nomination Process.

OMB Control Number: 1028-0101.

Form Number: None.

Type of Review: Revision of a currently approved collection.

Respondents/Affected Public: Public individuals.

Total Estimated Number of Annual Respondents: 12.

Total Estimated Number of Annual Responses: 12.

Estimated Completion Time per Response: 8 hours.

Total Estimated Number of Annual Burden Hours: 100 hours.

Respondent's Obligation: Voluntary.

Frequency of Collection: Annually.

Total Estimated Annual Non-hour Burden Cost: There are no non-hour costs burdens.

An agency may not conduct or sponsor and a person is not required to respond to a collection of information unless it displays a currently valid OMB control number.

The authority for this action is the Paperwork Reduction Act of 1995 (44 U.S.C. 3501, et seq.).

Frank Kelly,
Director, Earth Resources Observation and Science Center, U.S. Geological Survey.

[FR Doc. 2018-01844 Filed 1-30-18; 8:45 am]

BILLING CODE 4338-11-P